DEPARTMENT OF COMMERCE

Bureau of Industry and Security

15 CFR Part 702

[RIN 0694-AG17]

U.S. Industrial Base Surveys Pursuant to the Defense Production Act of 1950; Correction

AGENCY: Bureau of Industry and Security, Commerce.

ACTION: Proposed rule; correction.

SUMMARY: This rule corrects the preamble to a proposed rule published in the Federal Register of March 3, 2015, regarding U.S. Industrial Base Surveys by adding the inadvertently omitted ADDRESSES Caption.

DATES: March 9, 2015.

FOR FURTHER INFORMATION CONTACT: William Arvin, Bureau of Industry and Security Regulatory Policy Division, 202-482-2440 or william.arvin@bis.doc.gov.

Correction

In proposed rule FR Doc. 2015-04299, on page 11350 in the issue of March 3, 2015, in the first column, immediately following the DATES section, add the following:

ADDRESSES: Comments may be submitted:

• Via the Federal eRulemaking Portal: http://www.regulations.gov. Search for this rule using its regulations.gov docket number: BIS-2015-0010.

• By email directly to publiccomments@bis.doc.gov. Include “RIN 0694-AG17” in the subject line.

• By mail or delivery to Regulatory Policy Division, Bureau of Industry and Security, U.S. Department of Commerce, Room 2099B, 14th Street and Pennsylvania Avenue NW., Washington, DC 20230. Refer to “RIN 0694-AG17.”

Dated: March 3, 2015.
Matthew S. Borman,
Deputy Assistant Secretary for Export Administration.

[FR Doc. 2015-05324 Filed 3-6-15; 8:45 am]

BILLING CODE 3510-33-P